DEPARTMENT OF ENERGY

Federal Energy Regulatory Commission

[Docket No. CP07-99-000]

Southern Star Central Gas Pipeline, Inc.; Notice of Request Under Blanket Authorization

March 15, 2007.

Take notice that on March 9, 2007, Southern Star Central Gas Pipeline, Inc. (Southern Star), 4700 Highway 56, Owensboro, Kentucky 42301, filed in Docket No. CP07-99-000, an application pursuant to Sections 157.205 and 157.208 of the Commission's Regulations under the Natural Gas Act (NGA) as amended, to construct and operate approximately 14.5 miles of 20-inch diameter pipeline in Woods County, Oklahoma, under Southern Star's blanket certificate issued in Docket No. CP82-479-000, all as more fully set forth in the application which is on file with the Commission and open to the public for inspection.

Southern Star's proposed pipeline would serve as a new natural gas supply lateral (Waynoka Gas Supply Lateral) for Southern Star and its customers. The Waynoka Gas Supply Lateral would enable Southern Star to deliver processed gas originating from Anadarko Petroleum Corporation's (Anadarko) Waynoka Gas Processing Plant to an interconnection to be built on Southern Star's 26-inch diameter Straight Blackwell mainline in Woods County. Southern Star estimates that it would cost $11,200,000 to construct the proposed Waynoka Gas Supply Lateral.

Any questions concerning this application may be directed to David N. Roberts, Manager of Regulatory Affairs, Southern Star Central Gas Pipeline, Inc., P.O. Box 20010, Owensboro, Kentucky 42304, or telephone 270-852-4654.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Philis J. Posey,
Acting Secretary.

[FR Doc. E7-5122 Filed 3-20-07; 8:45 am]

BILLING CODE 6717-01-P